DEPARTMENT OF THE INTERIOR

National Park Service

[NPS-WASO-NRNHL-16876; PPWOCRADI0, PCU00RP14.R50000]

National Register of Historic Places; Notification of Pending Nominations and Related Actions

Nominations for the following properties being considered for listing or related actions in the National Register were received by the National Park Service before September 27, 2014. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th Floor, Washington, DC 20005; or by fax, 202-371-6447. Written or faxed comments should be submitted by December 10, 2014. Before including your address, phone number, email address, or other personal identifying information in your comment, you should be aware that your entire comment—including your personal identifying information—may be made publicly available at any time. While you can ask us in your comment to withhold your personal identifying information from public review, we cannot guarantee that we will be able to do so.

Dated: October 7, 2014.
J. Paul Loether,
Chief, National Register of Historic Places/National Historic Landmarks Program.

FLORIDA

Hillsborough County

Original Rogers Park Golf Course Site, 7801 N. 30th St., Tampa, 14000901

Leon County

Los Robles Historic District, Roughly bounded by Desoto St., N. Meridian & Thomasville Rds., Tallahassee, 14000902

Strickland School, 14735 Beth Page Rd., Tallahassee, 14000903

GEORGIA

Bartow County

Cartersville Downtown Historic District, Roughly bounded by Church, Gilmer, Leake & Noble Sts., Cartersville, 14000904

IOWA

Floyd County

Sherman Nursery Company Historic District, 1300 Grove St., Charles City, 14000905

Henry County

Second Baptist Church, 407 Saunders St., Mount Pleasant, 14000906

Jones County

Business Part of Olin Historic District, Both sides of 300 blk. of E. Jackson and portion of E. 2nd Sts., Olin, 14000907

MINNESOTA

Cass County

Pine River to Woman Lake and Longville Stagecoach Road—Widow Lake Segment Historic District, Address Restricted, Hackensack, 14000908

NEBRASKA

Douglas County

Hupmobile Building, 2523-2525 Farnam St., Omaha, 14000909

Turner Court Apartments, 3106 Dodge St., Omaha, 14000910

Hamilton County

Temple Craft Building, 1127-1131 12th St., Aurora, 14000916

NEW YORK

Erie County

Central Avenue Historic District, 16-50 Central Ave., 1-5 W. Main & 40 Clark Sts., Lancaster, 14000911

Wayne, The, and The Waldorf Apartments, 1106 Main St., Buffalo, 14000912

Nassau County

Denton Homestead, 60 Denton Ave., East Rockaway, 14000913

Ontario County

Woodlawn Cemetery, 130 N. Pearl St., Canandaigua, 14000914

Putnam County

Valhalla Highlands Historic District, Roughly Highland Rd., Locust, Lookout & Mountainview Drs., Cold Spring, 14000915

WISCONSIN

Eau Claire County

Eau Claire Vocational School, 1300 1st Ave., Eau Claire, 14000917

[FR Doc. 2014-27863 Filed 11-24-14; 8:45 am]

BILLING CODE 4312-51-P